DEPARTMENT OF DEFENSE

Department of the Army; Corps of Engineers

Coastal Engineering Research Board (CERB) Meeting

AGENCY: Department of the Army, DoD.

ACTION: Notice of meeting.

SUMMARY: In accordance with section 10(a)(2) of the Federal Advisory Committee Act (Pub. L. 92-463), announcement is made of the following committee meeting:

Name of Committee: Coastal Engineering Research Board (CERB).

Dates of Meeting: April 9, 2003.

Place: Sheraton Gateway Hotel Atlanta Airport, College Park, Georgia.

Time: 10 a.m. to 4 p.m.

FOR FURTHER INFORMATION CONTACT: Inquiries and notice of intent to attend the meeting may be addressed to Colonel John W. Morris III, Executive Secretary, Coastal Engineering Research Board, U.S. Army Engineer Research and Development Center, 3909 Halls Ferry Road, Vicksburg, Mississippi 39180-6199.

SUPPLEMENTARY INFORMATION:

Proposed Agenda: An Executive Session of the CERB will be held April 9, 2003. Topics to be discussed will include Section 227 Shoreline Erosion and Control Demonstration Projects and Contracting Process, Regional Sediment Management (RSM) Demonstration and RSM Research and Development, Field Data Collection Programs and Performance of Shore Protection projects, the National Shoreline Management Study, and Coastal Louisiana.

This meeting is open to the public, but since seating capacity of the meeting room is limited, advance notice of intent to attend, although not required, is requested in order to assure adequate arrangements for those wishing to attend.

John W. Morris III,
Colonel, Corps of Engineers, Executive Secretary.

[FR Doc. 03-6700 Filed 3-19-03; 8:45 am]

BILLING CODE 3710-61-M